DEPARTMENT OF ENERGY

Federal Energy Regulatory Commission

[Docket No. AD12-12-000]

Coordination Between Natural Gas and Electricity Markets; Notice of Commission Meeting

Take notice that, pursuant to the Commission order issued on November 15, 2012,¹ a representative from each regional transmission organization (RTO) and independent system operator (ISO) will appear before the Federal Energy Regulatory Commission (Commission) on May 16, 2013, from 1:30 p.m. (EST) to 3:30 p.m. (EST), to share information related to natural gas and electric coordination. The meeting will be held at the Federal Energy Regulatory Commission, 888 First Street NE., Washington, DC 20426. All interested persons are invited to attend the meeting, and no advance registration is necessary. Commission members will be present.

¹ Coordination between Natural Gas and Electricity Markets, 141 FERC ¶ 61,125, at P 11 (2012) (November 15 Order).

Following a series of regional technical conferences conducted in August 2012, the Commission issued an order directing further conferences and reports in the above captioned docket on November 15, 2012. In the November 15 Order, the Commission directed each RTO and ISO to appear before the Commission on May 16, 2013 to share its experiences from the winter and spring and describe the progress it has made in refining existing practices to provide better coordination between the natural gas and electric industries and ensure adequate fuel supplies. The Commission also directed RTOs and ISOs to address any natural gas transportation concerns that emerged during the winter heating season and identify any fuel-related generator outages during the winter and spring.

This meeting will not be transcribed. However, there will be a free webcast of the meeting. The webcast will allow persons to listen to the meeting, but not participate. Anyone with Internet access who wants to listen to the meeting can do so by navigating to www.ferc.gov's Calendar of Events and locating the meeting in the Calendar. The meeting will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the meeting.

Information on the meeting will also be posted on the Web site http://www.ferc.gov/industries/electric/indus-act/electric-coord.asp, as well as the Calendar of Events on the Commission's Web site, http://www.ferc.gov, prior to the meeting.

Commission meetings are accessible under section 508 of the Rehabilitation Act of 1973. For accessibility accommodations, please send an email to accessibility@ferc.gov or call toll free (866) 208-3372 (voice) or (202) 208-1659 (TTY), or send a FAX to (202) 208-2106 with the required accommodations.

For more information about the meeting, please contact:

Caroline Daly (Technical Information), Office of Energy Policy and Innovation, Federal Energy Regulatory Commission, 888 First Street NE., Washington, DC 20426, (202) 502-8931, Caroline.Daly@ferc.gov.

Sarah McKinley (Logistical Information), Office of External Affairs, Federal Energy Regulatory Commission, 888 First Street NE., Washington, DC 20426, (202) 502-8004, Sarah.McKinley@ferc.gov.

Dated: May 9, 2013.
Nathaniel J. Davis, Sr.,
Deputy Secretary.

[FR Doc. 2013-11544 Filed 5-14-13; 8:45 am]

BILLING CODE 6717-01-P